DEPARTMENT OF TRANSPORTATION

Federal Aviation Administration

14 CFR Part 39

[Docket No. FAA-2024-0221; Project Identifier AD-2023-01233-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2021-21-02, which applies to certain Airbus SAS Model A318, A319, A320, A321, A330-200, A330-200 Freighter, A330-300, A330-800, A330-900, A340-200, A340-300, A340-500, A340-600, and A380-800 series airplanes. AD 2021-21-02 requires replacing certain parts manufacturer approval (PMA) Ni-Cd batteries with serviceable Ni-Cd batteries or maintaining the electrical storage capacity of those PMA Ni-Cd batteries during airplane storage or parking. Since the FAA issued AD 2021-21-02, it was determined that the on-wing preservation procedures originally provided in that AD did not ensure the expected preservation of the battery capacity. This proposed AD would add airplanes to the applicability and would require replacing each affected part with a serviceable part before release to service of an airplane after a storage or parking period, as applicable. The FAA is proposing this AD to address the unsafe condition on these products.

DATES: The FAA must receive comments on this proposed AD by March 25, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0221; or in person at Docket Operations between 9 a.m. and 5 p.m., Monday through Friday, except Federal holidays. The AD docket contains this NPRM, any comments received, and other information. The street address for Docket Operations is listed above.

FOR FURTHER INFORMATION CONTACT: Dan Rodina, Aviation Safety Engineer, FAA, 1600 Stewart Avenue, Suite 410, Westbury, NY 11590; telephone 206-231-3225; email dan.rodina@faa.gov.

SUPPLEMENTARY INFORMATION:

Comments Invited

The FAA invites you to send any written relevant data, views, or arguments about this proposal. Send your comments to an address listed under ADDRESSES. Include “Docket No. FAA-2024-0221; Project Identifier AD-2023-01233-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan Rodina, Aviation Safety Engineer, FAA, 1600 Stewart Avenue, Suite 410, Westbury, NY 11590; telephone 206-231-3225; email dan.rodina@faa.gov. Any commentary that the FAA receives that is not specifically designated as CBI will be placed in the public docket for this rulemaking.

Background

The FAA issued AD 2021-21-02, Amendment 39-21762 (86 FR 62898, November 15, 2021) (AD 2021-21-02), for certain Airbus SAS Model A318, A319, A320, A321, A330-200, A330-200 Freighter, A330-300, A330-800, A330-900, A340-200, A340-300, A340-500, A340-600, and A380-800 series airplanes. AD 2021-21-02 was prompted by a determination that repetitive disconnection and reconnection of certain PMA Ni-Cd batteries during airplane parking or storage could lead to a reduction in capacity of those batteries. AD 2021-21-02 requires replacing certain PMA Ni-Cd batteries with serviceable Ni-Cd batteries or maintaining the electrical storage capacity of those PMA Ni-Cd batteries during airplane storage or parking. The agency issued AD 2021-21-02 to address reduced capacity of certain PMA Ni-Cd batteries, which could lead to reduced battery endurance performance and possibly result in failure to supply the minimum essential electrical power during abnormal or emergency conditions.

The FAA issued AD 2021-21-02 to address PMA Ni-Cd batteries that are similar in design to the type design Ni-Cd batteries identified in FAA AD 2021-20-08, Amendment 39-21746 (86 FR 57025, October 14, 2021) (AD 2021-20-08), which corresponds to European Union Aviation Safety Agency (EASA) AD 2020-0274, dated December 10, 2020 (EASA AD 2020-0274).

Actions Since AD 2021-21-02 Was Issued

Since the FAA issued AD 2021-21-02, EASA superseded EASA AD 2020-0274, and issued EASA AD 2023-0196, dated November 10, 2023 (EASA AD 2023-0196), to correct an unsafe condition for all:

• Airbus SAS Model A300 B4-2C, B4-102, B4-103, B4-120, B4-203, and B4-220 airplanes;

• Airbus SAS Model A300 B4-601, B4-603, B4-620, and B4-622 airplanes;

• Airbus SAS Model A300 B4-605R and B4-622R airplanes;

• Airbus SAS Model A300 C4-203, C4-620, and C4-605R variant F airplanes;

• Airbus SAS Model A300 F4-203, F4-605R, F4-608ST, and F4-622R airplanes;

• Airbus SAS Model A310-203, -221, -222, -204, -203C, -322, -304, -324, -308, and -325 airplanes;

• Airbus SAS Model A318-111, -112, -121, and -122 airplanes;

• Airbus SAS Model A319-111, -112, -113, -114, -115, -131, -132, -133, -151N, -153N, and -171N airplanes;

• Airbus SAS Model A320-211, -212, -214, -215, -216, -231, -232, -233, -251N, -252N, -253N, -271N, -272N, and -273N airplanes;

• Airbus SAS Model A321-111, -112, -131, -211, -212, -213, -231, -232, -251N, -251NX, -252N, -252NX, -253N, -253NX, -271N, -271NX, -272N, and -272NX airplanes;

• Airbus SAS Model A330-201, -202, -203, -223, -223F, -243, -243F, -301, -302, -303, -321, -322, -323, -341, -342, -343, -743L, -841, and -941 airplanes;

• Airbus SAS Model A340-211, -212, -213, -311, -312, -313, -541, -542, -642, and -643 airplanes;

• Airbus SAS Model A350-941 and A350-1041 airplanes; and

• Airbus SAS Model A380-841, -842, and -861 airplanes.

EASA AD 2023-0196 stated that Airbus and the Ni-Cd battery manufacturer determined that the on-wing preservation procedures originally provided in the service information identified in that AD did not ensure the expected preservation of the battery capacity.

The FAA is considering rulemaking to supersede FAA AD 2021-20-08 that corresponds to EASA AD 2023-0196 to address the type design Ni-Cd batteries identified in that EASA AD. The FAA has determined that any PMA part approved for the type design Ni-Cd batteries identified in EASA AD 2023-0196 are also affected by the unsafe condition; therefore, this proposed AD would apply to those PMA Ni-Cd batteries.

FAA's Determination

The FAA is issuing this NPRM after determining that the unsafe condition described previously is likely to exist or develop on other products of the same type design.

Proposed AD Requirements in This NPRM

This proposed AD would retain none of the requirements of AD 2021-21-02. This proposed AD would require replacing each affected part with a serviceable part before release to service of an airplane after a storage or parking period, as applicable. This proposed AD also adds Model A300 series airplanes; Model A300 B4-600, B4-600R, and F4-600R series airplanes, and Model A300 C4-605R Variant F airplanes (collectively called Model A300-600 series airplanes); Model A310 series airplanes; and Model A350-941 and -1041 airplanes to the applicability.

Costs of Compliance

The FAA estimates that this AD, if adopted as proposed, would affect 1,814 airplanes of U.S. registry. The FAA estimates the following costs to comply with this proposed AD:

Estimated Costs for Required Actions
Action | Labor cost | Parts cost | Cost per product | Cost on U.S. operators
New proposed actions | 5 work-hours × $85 per hour = $425 | $0 | $425 | $770,950

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-21-02, Amendment 39-21762 (86 FR 62898, November 15, 2021), and

b. Adding the following new AD:

Airbus SAS: Docket No. FAA-2024-0221; Project Identifier AD-2023-01233-T.

(a) Comments Due Date

The FAA must receive comments on this airworthiness directive (AD) by March 25, 2024.

(b) Affected ADs

This AD replaces AD 2021-21-02, Amendment 39-21762 (86 FR 62898, November 15, 2021) (AD 2021-21-02).

(c) Applicability

This AD applies to Airbus SAS airplanes identified in paragraphs (c)(1) through (14) of this AD, certificated in any category, equipped with any parts manufacturer approval (PMA) part approved for the type design nickel cadmium (Ni-Cd) batteries having a part number identified in Figure 1 to the introductory text of paragraph (c) of this AD.

Figure 1 to the Introductory Text of Paragraph (c)—Ni-Cd Battery

(1) Model A300 B4-2C, B4-102, B4-103, B4-120, B4-203, and B4-220 airplanes.

(2) Model A300 B4-601, B4-603, B4-620, and B4-622 airplanes.

(3) Model A300 B4-605R and B4-622R airplanes.

(4) Model A300 C4-203, C4-605R variant F, and C4-620 airplanes.

(5) Model A300 F4-203, F4-605R, F4-608ST, and F4-622R airplanes.

(6) Model A310-203, -203C, -204, -221, -222, -304, -308, -322, -324, and -325 airplanes.

(7) Model A318-111, -112, -121, and -122 airplanes.

(8) Model A319-111, -112, -113, -114, -115, -131, -132, -133, -151N, -153N, and -171N airplanes.

(9) Model A320-211, -212, -214, -215, -216, -231, -232, -233, -251N, -252N, -253N, -271N, -272N, and -273N airplanes.

(10) Model A321-111, -112, -131, -211, -212, -213, -231, -232, -251N, -251NX, -252N, -252NX, -253N, -253NX, -271N, -271NX, -272N, and -272NX airplanes.

(11) Model A330-201, -202, -203, -223, -223F, -243, -243F, -301, -302, -303, -321, -322, -323, -341, -342, -343, -743L, -841, and -941 airplanes.

(12) Model A340-211, -212, -213, -311, -312, -313, -541, -542, -642, and -643 airplanes.

(13) Model A350-941 and A350-1041 airplanes.

(14) Model A380-841, -842, and -861 airplanes.

(d) Subject

Air Transport Association (ATA) of America Code 24, Electrical Power.

(e) Unsafe Condition

This AD was prompted by a report that repetitive disconnection and reconnection of certain Ni-Cd batteries during airplane parking or storage could lead to a reduction in capacity of those batteries. The unsafe condition, if not addressed, could lead to reduced battery endurance performance and possibly result in failure to supply the minimum essential electrical power during abnormal or emergency conditions.

(f) Compliance

Comply with this AD within the compliance times specified, unless already done.

(g) Definitions

(1) For the purposes of this AD, an “affected PMA Ni-Cd battery” is defined as any PMA Ni-Cd battery approved for a Ni-Cd battery identified in Figure 1 to the introductory text of paragraph (c) of this AD, all serial numbers, except those which are a serviceable PMA Ni-Cd battery as defined in paragraph (g)(2) of this AD.

(2) For the purposes of this AD, a “serviceable PMA Ni-Cd battery” is defined as a PMA Ni-Cd battery approved for a Ni-Cd battery identified in Figure 1 to the introductory text of paragraph (c) of this AD, all serial numbers, which was fully (re)charged at constant current and, after (re)charging, was not stored on wing during a period exceeding the applicable “Time Limit” specified in Figure 1 to the introductory text of paragraph (c) of this AD. Periodical, regular, and overhaul checks of a PMA Ni-Cd battery that include the battery (re)charge at constant current are acceptable methods to demonstrate that the battery was (re)charged.

(3) For the purposes of this AD, a “serviceable non-PMA Ni-Cd battery” is defined as a type design Ni-Cd battery having a part number identified in Figure 1 to the introductory text of paragraph (c) of this AD, all serial numbers, which was fully (re)charged at constant current and, after (re)charging, was not stored on wing during a period exceeding the applicable “Time Limit” specified in Figure 1 to the introductory text of paragraph (c) of this AD. Periodical, regular, and overhaul checks of a non-PMA Ni-Cd battery that include the battery (re)charge at constant current are acceptable methods to demonstrate that the battery was (re)charged.

(h) Replacement

Before release to service of an airplane after a storage or parking period, as applicable, replace each affected PMA Ni-Cd battery with a serviceable PMA Ni-Cd battery or a serviceable non-PMA Ni-Cd battery.

Note 1 to paragraph (h): Airplanes on which a battery is replaced with a serviceable non-PMA Ni-Cd battery are affected by AD 2021-20-08, Amendment 39-21746 (86 FR 57025, October 14, 2021), which provides requirements for non-PMA Ni-Cd batteries.

(i) Parts Installation Limitation

As of the effective date of this AD, release to service of an airplane is allowed, provided all PMA Ni-Cd batteries approved for a Ni-Cd battery identified in Figure 1 to the introductory text of paragraph (c) of this AD that are installed on that airplane are fully (re)charged at constant current and, after (re)charging, were not stored on wing during a period exceeding the applicable “Time Limit” specified in Figure 1 to the introductory text of paragraph (c) of this AD.

(j) Alternative Methods of Compliance (AMOCs)

The Manager, Manager, International Validation Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD. Information may be emailed to: 9-AVS-AIR-730-AMOC@faa.gov. Before using any approved AMOC, notify your appropriate principal inspector, or lacking a principal inspector, the manager of the responsible Flight Standards Office.

(k) Related Information

For more information about this AD, contact Dan Rodina, Aviation Safety Engineer, FAA, 1600 Stewart Avenue, Suite 410, Westbury, NY 11590; telephone 206-231-3225; email dan.rodina@faa.gov.

(l) Material Incorporated by Reference

None.

Issued on February 1, 2024.
Victor Wicklund,
Deputy Director, Compliance & Airworthiness Division, Aircraft Certification Service.

[FR Doc. 2024-02494 Filed 2-8-24; 8:45 am]

BILLING CODE 4910-13-P